NATIONAL AERONAUTICS AND SPACE ADMINISTRATION

[Notice (05-162)]

Government-Owned Inventions, Available for Licensing

AGENCY: National Aeronautics and Space Administration.

ACTION: Notice of availability of inventions for licensing.

SUMMARY: The inventions listed below assigned to the National Aeronautics and Space Administration, have been filed in the United States Patent and Trademark Office, and are available for licensing.

DATES: December 9, 2005.

FOR FURTHER INFORMATION CONTACT: Robert M. Padilla, Patent Counsel, Ames Research Center, Code 202A-4, Moffett Field, CA 94035-1000; telephone (650) 604-5104; fax (650) 604-2767.

NASA Case No. ARC—15443: Advanced Sunphotometer;

NASA Case No. ARC-15575-1: Use of Patterned CNT Arrays For Display Purposes;

NASA Case No. ARC-15566-1: Chemical Sensors Using Coated Or Doped Carbon Nanotube Networks;

NASA Case No. ARC-14744-2: A Versatile Platform For Nanotechnology Based On Circular Permutations Of Chaperonin Protein;

NASA Case No. ARC-15460-1: Gas Composition Sensing Using Carbon Nanotube Arrays;

NASA Case No. ARC-15506-1: Application Of Carbon Nanotube Hold-Off Voltage For Determining Gas Composition;

NASA Case No. ARC-15315-1: Reconfigurable Auditory-visual Display;

NASA Case No. ARC-15171-1: Trajectory Specification For High-Capacity Air Traffic Control;

NASA Case No. ARC-15578-1: Visual Signal Sensor Organ Replacement.

Dated: December 5, 2005.
Keith T. Sefton,
Deputy General Counsel, Administration and Management.

[FR Doc. E5-7167 Filed 12-8-05; 8:45 am]

BILLING CODE 7510-13-P